ENVIRONMENTAL PROTECTION AGENCY

[ER-FRL-6630-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-COE-E30042-FL Rating LO, Broward County Shore Protection Project, Fill Placement in Segment II (Hillsboro Inlet to Port Everglades) and Segment III (Port Everglades to the south County Line), Broward County, FL.

Summary: EPA has no objections to the dredging proposal.

ERP No. D-COE-E35021-FL Rating EC2, Miami River Dredged Material Management Plan, River Sediments Dredging and Disposal Maintenance Dredging, Biscayne Bay, City of Miami, Miami-Dade County, FL.

Summary: EPA supported the environmental restoration of the Miami River system, but raised some concerns about the potential impacts of the restoration proposal. EPA also noted that a preliminary appraisal of this action would only be possible after assessing how the chosen contractor elects to carry out the constituent elements of the final Request for Proposals. EPA also recommended that a monitoring plan be developed and made part of any final project.

ERP No. D-COE-J36052-ND Rating EU3, Devils Lake Basin North Dakota Study, The Reduction of Flood Damages Related to the Rising Lake Levels and the Flood-Prone Areas Around Devils Lake and to Reduce the Potential for Natural Overflow Event, Sheyenne River and Red River of the North, ND.

Summary: EPA found the preliminary selected outlet alternative to be environmentally unsatisfactory based on adverse impacts to wetlands and riparian habitats, water quality in the Sheyenne and Red Rivers, introduction of invasive species and concerns about meeting the objectives of the Boundary Waters Treaty of 1909 with Canada. The DEIS also lacked information on water quality impacts and appropriate mitigation.

ERP No. D-COE-K39073-CA Rating EC2, Middle Creek Flood Damage Reduction and Ecosystem Restoration Project, Implementation, Located between Highway 20 and Middle Creek immediately northwest of Clear Lake, Lake County, CA.

Summary: EPA expressed environmental concerns and requested additional information on impacts to water quality from methyl mercury contamination, cultural resources in the study area and tribal trust resources.

ERP No. D-FHW-K40250-NV Rating EC2, Boulder City/US 93 Corridor Transportation Improvements, Study Limits are between a western boundary on US 95 in the City of Henderson and an eastern boundary on US 93 west of downtown Boulder City, NPDES and US Army COE Section 404 Permits Issuance and Right-of Way Grant, Clark County, NV.

Summary: EPA expressed environmental concerns regarding impacts to Waters of the U.S. and the potential for indirect impacts associated with Alternative D. EPA believes that Alternative D is not the environmentally preferred alternative. EPA recommended that coordination occur before the Final EIS regarding permit and mitigation requirements for discharge of fill into Waters of the U.S.

ERP No. D-FRC-B03010-00 Rating EC2, Islander East Pipeline Project, Interstate Natural Gas Pipeline Facilities Construction and Operation to provide 285,000 dekatherms per day (Dth/d) of Natural Gas to Energy Markets in Connecticut, Long Island and New York City, New Haven, CT and Suffolk County, NY.

Summary: EPA expressed environmental concerns about the project purpose and need, analysis of alternatives, wetland and marine impacts associated with the pipeline, and asked for more information concerning water supply and spill control issues.

ERP No. D-IBR-K31003-CA Rating EO2, Imperial Irrigation District Water Conservation and Transfer Project and Draft Habitat Conservation Plan (HCP), To Implement a Grant and Section 10 Permit to Authorize the Incidental Take, Colorado River, Imperial County, CA.

Summary: EPA endorsed the effort to reduce Southern California's use of Colorado River water to California's legal apportionment of 4.4 maf/yr while minimizing the adverse effects on urban and industrial water use. EPA expressed objections over potential impacts to water and air quality, biological resources, Indian tribes, and potential cumulative impacts on water quality and the increased probability of more frequent and higher magnitude water shortages for other users of Lower Colorado River water. EPA requested that EPA comments on other related water management actions (e.g., the Colorado River Quantification Settlement Agreement (QSA) and the Department of Interior's Implementation Agreement (IA) be considered together with this EIS.

ERP No. D-MMS-G02011-00 Rating LO, Gulf of Mexico Outer Continental Shelf Oil and Gas Lease Sales: 2003-2007, Starting in 2002 the Proposed Central Planning Area Sales 185, 190, 194, 198, and 201 and Western Planning Area Sales 187, 192, 196, and 200, Offshore Marine Environment, Coastal Counties and Parishes of TX, LA, AL and MS.

Summary: EPA has no objections but request clarification in the Final EIS.

ERP No. D1-FAA-D51026-00 Rating EC2, Potomac Consolidated Terminal (PCT) Radar Approach Control Facility (TRACON) Airspace Redesign in the Baltimore-Washington Metropolitan Area, Newly Consolidated TRACON, Aircraft Performance Improvements and Emerging PCT Technologies, PA MD, DE, VA, WV and DC.

Summary: EPA has environmental concerns regarding noise impacts and believe that additional clarification/information and identification of possible mitigation measures is needed in the Final EIS.

Final EISs

ERP No. F-FTA-K51041-CA BART-Oakland International Airport Connector, Extending south from the Existing Coliseum BART Station, about 3.2 miles, to the Airport Terminal Area, Alameda County, CA.

Summary: EPA has no objection to the proposed action since EPA's previous concerns were adequately addressed in the final EIS.

ERP No. F-MMS-A02242-00 Outer Continental Shelf Oil and Gas Leasing Program: From Mid-2002 Through Mid-2007, 5-Year Schedule Leasing Program for 20 Sales in 8 of the Outer Continental Shelf Planning Areas, AL, AK, CA, FL, LA, MS, OR, TX and WA.

Summary: EPA has no objection to the action as proposed. ERP No. F-SFW-L91014-WA Icicle Creek Restoration Creek Project, To Protect and Aid in the Recovery of Threatened and Endangered Fish, Leavenworth National Fish Hatchery (LNFH), COE Section 404 and NPDES Permits, Leavenworth, WA.

Summary: EPA appreciates changes made to the document in response to comments on the Draft EIS. In future activities, EPA suggests that Tribal consultation and coordination be an active element in any finalized plans and management direction for the project area.

ERP No. FS-GSA-K80037-CA San Diego-United States Courthouse Annex Street Project, Site Selection and Construction, New Information concerning Addition of the Union Street with Hotel San Diego Facade and Lobby Alternative, Central Business District (CBD), City of San Diego, San Diego County, CA.

Summary: No formal comment letter was sent to the preparing agency.

ERP No. FS-MMS-L67008-ID Smoky Canyon Mine Panels B and C, Proposal to Mine Phosphate Ore Reserves in the Final Two Mine Panels, National Forest Systems Lands and Federal Mineral Leases, Caribou National Forest, Permits Issuance, Caribou County, ID.

Summary: EPA generally supports the agency preferred alternative with the additional restriction of placing the seleniferous overburden solely in the pit backfill. EPA recommends including the following information in the ROD to address our remaining concerns: actual cost reclamation bonding, a commitment to update the reclamation bond if needed, an allocation of the reclamation bond equal to 30% of reclamation estimates, and mining approval contingent on the development and approval of a complete monitoring strategy (with quality assurance and annual report distribution protocols).

Dated: June 4, 2002.
Ken Mittelholtz,
Environmental Protection Specialist, Office of Federal Activities.

[FR Doc. 02-14365 Filed 6-6-02; 8:45 am]

BILLING CODE 6560-50-P